DEPARTMENT OF ENERGY

Energy Information Administration

Proposed Agency Information Collection

AGENCY: U.S. Energy Information Administration (EIA), U.S. Department of Energy.

ACTION: Agency Information Collection Activities: Proposed Collection; Notice and Request for Comments.

SUMMARY: The EIA invites public comment on the comprehensive evaluation of an existing data collection, the Financial Reporting System, EIA-28, which EIA is developing for submission to the Office of Management and Budget (OMB) pursuant to the Paperwork Reduction Act of 1995. Comments are invited on: (a) Whether the proposed collection of information is necessary for the proper evaluation of this form, including whether the information shall have practical utility; (b) the accuracy of the agency's estimate of the burden of the proposed collection of information that will occur as a result of this evaluation, including the validity of the methodology and assumptions used; (c) ways to enhance the quality, utility, and clarity of the information to be collected; and (d) ways to minimize the burden of the collection of information on respondents, including through the use of automated collection techniques or other forms of information technology.

DATES: Comments regarding this proposed information collection must be received on or before November 16, 2012. If you anticipate difficulty in submitting comments within that period, contact the person listed in ADDRESSES as soon as possible.

ADDRESSES: Written comments may be sent to Neal Davis, Energy Information Administration, 1000 Independence Ave, SW., Washington DC 20585 or by fax at 202-586-4420 or by email at neal.davis@eia.gov.

FOR FURTHER INFORMATION CONTACT: Requests for additional information or copies of the information collection instrument and instructions should be directed to Neal Davis, Energy Information Administration, 1000 Independence Ave. SW., Washington DC 20585, neal.davis@eia.gov.

SUPPLEMENTARY INFORMATION: This information collection request contains:

(1) OMB No.1905-0149: Existing;

(2) Information Collection Request Title: Evaluation of the Financial Reporting System, Form EIA-28;

(3) Type of Request: Comprehensive Evaluation of an Existing Data Collection;

(4) Purpose: The U.S. Energy Information Administration (EIA) is planning to request a three year approval from the Office of Management and Budget (OMB) to conduct a comprehensive evaluation of an existing data collection, the Financial Reporting System, EIA-28. This is not a request to collect data using the existing data collection. It is a request to collect data in order to evaluate an existing data collection. This includes investigating what data are being collected on the form, how these data are understood by respondents, and how useful the data being collected are to stakeholders. The goal of this evaluation is to collect enough data about the existing data collection to successfully inform the future redesign of the EIA-28. This authority would allow EIA to conduct field testing, pilot surveys, respondent debriefings, cognitive interviews, usability interviews, and focus groups in support of this evaluation. Through the use of these methods, EIA will improve the quality of data being collected, reduce or minimize respondent burden, increase agency efficiency, and improve responsiveness to the public. Note that the use of any or all of these methods is dependent upon the availability of resources and all methods are voluntary.

The methods proposed for coverage by this evaluation are the following:

Field Testing. Field testing surveys conducted under this evaluation will generally be methodological studies of 100 cases or less. A field test is used to clarify particular issues, rather than to replicate all components of a methodological design. Accordingly, field tests will not employ statistically representative samples.

Pilot Surveys. Pilot surveys conducted under this evaluation will generally be methodological studies of 100 cases or less. The pilot surveys will replicate all components of the methodological design, sampling procedures (where possible) and questionnaires of the full scale survey. Accordingly, pilot tests will employ statistically representative samples.

Respondent Debriefings. Respondent debriefings conducted under this evaluation will generally be methodological studies of 100 cases or less. Respondent debriefings are usually conducted post data collection and are used to determine potential issues with data quality and to determine a more accurate respondent burden measure. Respondent debriefings can employ either statistically or non-statistically representative samples. When employing statistically representative samples, respondent debriefings allow EIA to improve its understanding of variance for the items in the EIA-28.

Cognitive Interviews. Cognitive interviews conducted under this evaluation will generally number 50 or less. Cognitive interviews are used to identify problems of ambiguity or misunderstanding, or other difficulties respondents have answering questions, and reduce measurement error in a survey. Cognitive interviews will not employ statistically representative samples

Usability Interviews. Usability interviews conducted under this evaluation will generally number 50 or less. Usability interviews are used to make sure that electronic questionnaires, Web sites and other associated materials are user-friendly, allowing respondents to easily and intuitively navigate the electronic item and find the information that they seek. Usability interviews will not employ statistically representative samples.

Focus Groups. Focus groups conducted under this evaluation will generally number 25 or less. Focus groups are used to identify and explore issues with populations of interest, e.g., from a specific group of stakeholders. Focus groups will not employ statistically representative samples.

(5) Annual Estimated Number of Respondents: 300;

(6) Annual Estimated Number of Total Responses: 300;

(7) Annual Estimated Number of Burden Hours: 450;

(8) Annual Estimated Reporting and Recordkeeping Cost Burden: 0. EIA estimates that there are no additional costs to respondents associated with the surveys other than the costs associated with the burden hours.

Statutory Authority: Public Law 93-275 (Federal Energy Administration Act of 1974), 5(a), 5(b), and 13(a).

Issued in Washington, DC on September 11, 2012.
Stephanie Brown,
Director, Office of Survey Development and Statistical Integration, Energy Information Administration.

[FR Doc. 2012-22833 Filed 9-14-12; 8:45 am]

BILLING CODE 6450-01-P